FEDERAL COMMUNICATIONS COMMISSION

47 CFR Part 1

[WC Docket Nos. 17-108, 17-287, 11-42; DA 23-996; FR ID 181657]

Wireline Competition Bureau Seeks Comment on Petitions Seeking Reconsideration of the RIF Remand Order

AGENCY: Federal Communications Commission.

ACTION: Notification; request for comments.

SUMMARY: In this document, the Wireline Competition Bureau of the Federal Communications Commission (Commission) seeks comment on petitions for reconsideration of the RIF Remand Order filed by Common Cause, et al.; INCOMPAS; Public Knowledge; and the County of Santa Clara, et al. The petitioners request that Commission reconsider its decision in the RIF Remand Order, reverse or vacate that Order, and initiate a rulemaking proceeding to address the concerns raised by the D.C. Court of Appeals pertaining to the Commission's 2018 RIF Order. In addition to the issues raised in the petitions, the Commission invites comment on how the issues under consideration in WC Docket No. 23-320 bear on this proceeding.

DATES: Comments are due on or before December 14, 2023, and reply comments are due on or before January 17, 2024.

ADDRESSES: You may submit comments, identified by WC Docket Nos. 17-108, 17-287, 11-42 by any of the following methods:

• Electronic Filers: Comments may be filed electronically using the internet by accessing ECFS: https://www.fcc.gov/ecfs/.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, 35 FCC Rcd 2788 (2020). https://www.fcc.gov/document/fcc-closes-headquarters-open-window-and-changes-hand-delivery-policy.

People with Disabilities: To request materials in accessible formats for people with disabilities (braille, large print, electronic files, audio format), send an email to fcc504@fcc.gov or call the Consumer & Governmental Affairs Bureau at (202) 418-0530 (voice).

FOR FURTHER INFORMATION CONTACT: Wireline Competition Bureau, Competition Policy Division, Chris Laughlin, at (202) 418-1580, Openinternet2023@fcc.gov.

SUPPLEMENTARY INFORMATION: This is a summary of the Commission's document (Public Notice) in WC Docket Nos. 17-108, 17-287, 11-42, DA 23-996, issued and released on October 19, 2023. The full text of this document is available on the Commission's website at https://docs.fcc.gov/public/attachments/DA-23-996A1.pdf. To request materials in accessible formats for people with disabilities (e.g., Braille, large print, electronic files, audio format, etc.), send an email to FCC504@fcc.gov or call the Consumer & Governmental Affairs Bureau at (202) 418-0530 (voice).

Ex Parte Rules. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must: (1) list all persons attending or otherwise participating in the meeting at which the ex parte presentation was made; and (2) summarize all data presented and arguments made during the presentation. If the presentation consisted in whole or in part of the presentation of data or arguments already reflected in the presenters written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Jodie May,
Division Chief, Competition Policy Division, Wireline Competition Bureau.

[FR Doc. 2023-23932 Filed 10-30-23; 8:45 am]

BILLING CODE 6712-01-P